COMMISSION ON CIVIL RIGHTS

Agenda and Notice of Public Meeting of the New Jersey State Advisory Committee

Notice is hereby given, pursuant to the provisions of the rules and regulations of the U.S. Commission on Civil Rights and the Federal Advisory Committee Act, that a planning meeting of the New Jersey State Advisory Committee will convene at on September 21, 2010 at 11 a.m. at the Legislative Annex Building, 125 West State Street, Trenton, New Jersey 08625, Room 10. The purpose of the planning meeting is to discuss committee member suggestions for a briefing topic to be scheduled in FY 2011.

Members of the public are entitled to submit written comments; the comments must be received in the regional office by October 21, 2010. Written comments may be mailed to the Eastern Regional Office, U.S. Commission on Civil Rights, 624 Ninth Street, NW., Suite 740, Washington, DC 20425. They may be faxed to 202-376-7748, or e-mailed to ero@usccr.gov. Persons who desire additional information may contact the Eastern Regional Office at 202-376-7533.

Hearing-impaired persons who will attend the meeting and require the services of a sign language interpreter should contact the Eastern Regional Office at least ten (10) working days before the scheduled date of the meeting.

Records generated from this meeting may be inspected and reproduced at the Eastern Regional Office, as they become available, both before and after the meeting. Persons interested in the work of this advisory committee are directed to the Commission's Web site, http://www.usccr.gov, or may contact the Eastern Regional Office at the abovee-mail or street address.

The meeting will be conducted pursuant to the rules and regulations of the Commission and FACA.

Dated in Washington, DC, August 18, 2010.
Peter Minarik,
Acting Chief, Regional Programs Coordination Unit.

[FR Doc. 2010-20831 Filed 8-20-10; 8:45 am]

BILLING CODE 6335-01-P